NATIONAL SCIENCE FOUNDATION

Notice of Permit Modification Received Under the Antarctic Conservation Act of 1978

AGENCY: National Science Foundation.

ACTION: Notice of permit modification request.

SUMMARY: The National Science Foundation (NSF) is required to publish a notice of requests to modify permits issued to conduct activities regulated under the Antarctic Conservation Act of 1978. This is the required notice of a requested permit modification.

DATES: Interested parties are invited to submit written data, comments, or views with respect to this permit application by January 3, 2022. Permit applications may be inspected by interested parties at the Permit Office, address below.

ADDRESSES: Comments should be addressed to Permit Office, Office of Polar Programs, National Science Foundation, 2415 Eisenhower Avenue, Alexandria, Virginia 22314.

FOR FURTHER INFORMATION CONTACT: Polly Penhale, ACA Permit Officer, Office of Polar Programs, National Science Foundation, 2415 Eisenhower Avenue, Alexandria, VA 22314; 703-292-8030; or ACApermits@nsf.gov.

SUPPLEMENTARY INFORMATION: The National Science Foundation, as directed by the Antarctic Conservation Act of 1978 (Pub. L. 95-541), as amended by the Antarctic Science, Tourism and Conservation Act of 1996, has developed regulations for the establishment of a permit system for various activities in Antarctica and designation of certain animals and certain geographic areas as requiring special protection. The regulations establish such a permit system to designate Antarctic Specially Protected Areas.

Description of Permit Modification Requested: The Foundation issued a permit (ACA 2018-025) to Bill Davis, Quark Expeditions Inc. on November 24, 2017. The issued permit allows the applicant to conduct waste management activities associated with the operation and activities of multiple tour vessels in Antarctica. Activities include shore excursions, paddling activities, skiing, mountaineering, and ice climbing as well as vessel-supported short overnight stays, also known as coastal camping. A modification to this permit issued on December 4, 2019, updated the name of the permit-holder to Allison Kean, Vice-president of operations.

Now the applicant proposes a modification to his permit to include activities associated with the use of two twin-engine helicopters (Airbus H145) for passenger excursion and sightseeing flights during the operator's 2021-2022 season. Helicopter-supported activities include sightseeing flights and shore-landings as well as helicopter-based skiing and trekking activities. Designated pollutants brought ashore during these activities include cooking fuel and batteries that are to be used in emergency circumstances only. All materials brought shore during helicopter-based activities will be removed from the continent following each activity and measures will be taken to minimize environmental impact in the event of a release. Helicopters will only be refueled aboard the operator's vessel and measures will be in place to prevent accidental discharge.

Location: Antarctic Peninsula Region.

Dates: January 1, 2022-March 31, 2022.

Erika N. Davis,
Program Specialist, Office of Polar Programs.

[FR Doc. 2021-26290 Filed 12-2-21; 8:45 am]

BILLING CODE 7555-01-P